DEPARTMENT OF COMMERCE

Foreign-Trade Zones Board

[B-82-2021]

Foreign-Trade Zone (FTZ) 75—Phoenix, Arizona; Notification of Proposed Production Activity; LCY Electronic Materials Inc. (Specialty Chemicals for Microchip Production); Casa Grande, Arizona

LCY Electronic Materials Inc., submitted a notification of proposed production activity to the FTZ Board (the Board) for its facility in Casa Grande, Arizona, within FTZ 75. The notification conforming to the requirements of the Board's regulations (15 CFR 400.22) was received on December 10, 2021.

Pursuant to 15 CFR 400.14(b), FTZ production activity would be limited to the specific foreign-status materials/components and specific finished products described in the submitted notification (summarized below) and subsequently authorized by the Board. The benefits that may stem from conducting production activity under FTZ procedures are explained in the background section of the Board's website—accessible via www.trade.gov/ftz.

The proposed finished products include electronic-grade isopropyl alcohol, photoresist stripper, polysilicon cleaner, photosensitive polyimide, and ammonium hydroxide diluted with water (duty rate ranges from duty-free to 6.5%).

The proposed foreign-status materials and components include technical-grade isopropyl alcohol, diethylene glycol dimethyl ether, ethanolamine, gamma-butyrolactone, and ammonia (duty rate ranges from duty-free to 6.5%). The request indicates that certain materials/components are subject to duties under Section 301 of the Trade Act of 1974 (Section 301), depending on the country of origin. The applicable Section 301 decisions require subject merchandise to be admitted to FTZs in privileged foreign status (19 CFR 146.41).

Public comment is invited from interested parties. Submissions shall be addressed to the Board's Executive Secretary and sent to: ftz@trade.gov. The closing period for their receipt is January 31, 2022.

A copy of the notification will be available for public inspection in the “Online FTZ Information System” section of the Board's website.

For further information, contact Juanita Chen at juanita.chen@trade.gov.

Dated: December 16, 2021.
Andrew McGilvray,
Executive Secretary.

[FR Doc. 2021-27716 Filed 12-21-21; 8:45 am]

BILLING CODE 3510-DS-P